DEPARTMENT OF THE INTERIOR

National Park Service

General Management Plan, Environmental Impact Statement, Gateway National Recreation Area, New York and New Jersey

AGENCY: National Park Service, Department of the Interior.

ACTION: Notice of Intent to Prepare a General Management Plan and Environmental Impact Statement, Gateway National Recreation Area.

SUMMARY: Pursuant to section 102 (2)(C) of the National Environmental Policy Act (NEPA) of 1969, the National Park Service (NPS) is preparing a General Management Plan and Environmental Impact Statement (GMP/EIS) for the Gateway National Recreation Area. The park comprises approximately 26,607 acres, extending through three New York City boroughs (Brooklyn, Queens, and Staten Island) and into northern New Jersey (Monmouth County).

Prepared by park staff and planners in the NPS Northeast Region, with assistance from advisors and contractors, the GMP/EIS will propose a long-term approach to managing Gateway National Recreation Area. Consistent with the park's purpose, NPS policy, and other laws and regulations, alternatives will be developed to guide the management of the park over the next 15 to 20 years. The GMP/EIS will address a range of management alternatives for natural and cultural resource protection, visitor use and interpretation, park carrying capacity, facilities development and operations. A “no action” alternative will also be considered and an agency preferred management alternative identified. The alternatives will incorporate various zoning and management prescriptions to ensure resource preservation and public appreciation of the park. The environmental consequences that could result from implementing the various alternatives will be evaluated for cultural and natural resources, visitor experience, park operations, and the socioeconomic environment. Major issues to be explored include: measures for the preservation of resources; indications of the types and general intensities of development; identification of, and implementation commitments for, visitor carrying capacities; and indications of potential boundary modifications.

Meeting Notices: The public is invited to express views, issues and concerns about the long-term management of Gateway National Recreation Area. Public scoping meetings will be scheduled and consist of a discussion of the GMP/EIS process including ways that the public can be involved in providing and receiving information, and reviewing and commenting upon the draft GMP/EIS. The place and time of public scoping meetings will be announced by the NPS and noticed in local newspapers serving the area. Scoping and other periodic public meeting notices and information regarding the GMP/EIS will also be placed on the NPS Planning, Environment and Public Comment (PEPC) Web site (http://parkplanning.nps.gov/gate) for continuing public review and comment.

ADDRESSES: Information related to the GMP/EIS planning process and ongoing public involvement opportunities will be provided online at the Gateway National Recreation Area Web site (http://www.nps.gov/gate) and on the NPS PEPC Web site (http://parkplanning.nps.gov/gate). Requests to be added to the project mailing list may be made electronically through the NPS PEPC Web site or by directing requests to the contacts listed below.

FOR FURTHER INFORMATION CONTACT:

Barry Sullivan, Superintendent, Gateway National Recreation Area, 210 New York Avenue, Staten Island, NY 10305. Telephone: 718 354-4665.

Helen Mahan, Community Planner/Project Manager, National Park Service, Park Planning and Special Studies, 200 Chestnut Street, Philadelphia, PA 19106. Telephone: 215-597-6483.

SUPPLEMENTARY INFORMATION: If you wish to comment on the GMP/EIS, you may submit your comments by any one of several methods. You may mail comments to contacts listed above or you may submit comments electronically through the NPS PEPC Web site (http://parkplanning.nps.gov/gate). Before including your address, phone number, e-mail address, or other personal identifying information in your comment, you should be aware that your entire comment—including your personal identifying information—may be made publicly available at any time. While you can ask us in your comment to withhold your personal identifying information from public review, we cannot guarantee that we will be able to do so.

Michael T. Reynolds,
Deputy Regional Director, Northeast Region, National Park Service.

[FR Doc. E9-16326 Filed 7-9-09; 8:45 am]

BILLING CODE 4310-PM-P